DEPARTMENT OF HEALTH AND HUMAN SERVICES

National Institutes of Health

Submission for OMB review; comment request; The National Survey to Evaluate the NIH SBIR Program.

SUMMARY: Under the provisions of section 3507(a)(1)(D) of the Paperwork Reduction Act of 1995, the Office of Extramural Research, Office of Extramural Programs, the National Institutes of Health has submitted to the Office of Management and Budget (OMB) a request to review and approve the information collection listed below. This proposed information collection was previously published in the Federal Register on June 14, 2001 (p. 32361) and allowed 60-days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection: Title: The National Survey to Evaluate the NIH SBIR Program. Type of Information Collection Request: New. Need and Use of Information Collection: The NIH, Office of Extramural Research, Office of Extramural Programs seeks to obtain OMB's approval to conduct a survey to evaluate the Small Business Innovation Research (SBIR) Program. The SBIR Program, established by Congress in 1982 (Public Law 97-219) and recently reauthorized through September 30, 2008 (Pub. L. 106-554), provides research support to small businesses for innovative technology. The primary objectives are to assess the extent to which SBIR program goals are being met, particularly those dealing with the commercialization of research products, processes or services and the uncovering of new knowledge that will lead to better health for everyone. With survey information, NIH is enabled to accurately assess the results of its large financial investment in funding innovative research conducted by small business concerns. Findings will help to: (1) Understand if innovative projects supported through the NIH SBIR Program are being commercialized, and if so, to classify the types of products, processes or services that are derived through SBIR funding; (2) determine if other measures of success defined within the NIH mission are being achieved; and (3) enhance NIH's administration of the SBIR Program and the support that it provides to small business concerns. Overall, the NIH will use the survey results to assess the outcomes from NIH-supported SBIR awards. OD will collect information from SBIR awardees using an Internet survey. The online survey will be implemented using SSL (Secure Socket Layer) encryption technology and password access. OD will use first-class mail and email messages to advise awardees that they have been selected to participate in the survey. Frequency of Response: Annual (As needed on an on-going basis.); Affected Public: Small business concerns supported by NIH through the SBIR Program; and Type of Respondents: For-profit small business concerns that have received NIH SBIR awards. The annual reporting burden is as follows: Estimated Number of Respondents: 1,000; Estimated Number of Responses per Respondent: 1; Average Burden Hours Per Response: .5; and Estimated Total Annual Burden Hours Requested: 500. The annualized cost to respondents is estimated at $37,500. There are no Capital Costs to report. There are no Operating Costs and/or Maintenance Costs to report.

Request for Comments

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB

Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact: Ms. Jo Anne Goodnight, Coordinator, NIH Small Business Innovation Research/Small Business Technology Transfer Programs, Rockledge II Building, Room 6186, 6701 Rockledge Drive, Bethesda, Md, or call non-toll-free number (301) 435-2688, or email your request, including your address, to: jg128w@nih.gov.

Comments Due Date

Comments regarding this information collection are best assured of having their full effect if received on or before November 23, 2001.

Dated: October 9, 2001.
Jo Anne Goodnight,
SBIR/STTR Program Coordinator, NIH.

[FR Doc. 01-26619 Filed 10-22-01; 8:45 am]

BILLING CODE 4140-01-M